DEPARTMENT OF TRANSPORTATION

Federal Aviation Administration

14 CFR Part 71

[Docket No. FAA-2007-0276; Airspace Docket No. 07-AEA-16]

Establishment of Class E Airspace; Lewisburg, PA

AGENCY: Federal Aviation Administration (FAA), DOT.

ACTION: Final rule; confirmation of effective date, correction.

SUMMARY: This action confirms the effective date of a direct final rule that establishes a Class E airspace area to support Area Navigation (RNAV) Global Positioning System (GPS) Special Instrument Approach Procedures (IAPs) that serve the Evangelical Community Hospital, Lewisburg, PA. Additionally, this action corrects a minor technical error in the publication of the coordinates for the Evangelical Community Hospital East Heliport.

DATES: Effective 0901 UTC, June 12, 2008. The Director of the Federal Register approves this incorporation by reference action under Title 1, Code of Federal Regulations, part 51, subject to the annual revision of FAA Order 7400.9 and publication of conforming amendments.

FOR FURTHER INFORMATION CONTACT: Daryl Daniels, Airspace Specialist, System Support, AJO2-E2B.12, FAA Eastern Service Center, 1701 Columbia Ave., College Park, GA 30337; telephone (404) 305-5581; fax (404) 305-5572.

SUPPLEMENTARY INFORMATION:

History

The FAA published this direct final rule with a request for comments in the Federal Register on January 31, 2008 (73 FR 5739) to establish Class E airspace at Lewisburg, PA. After publication, it was discovered that the airport reference point of the Evangelical Community Hospital East Heliport was incorrectly published as “lat. 40°58′47″ N., long. 76°53′08″ W.” The coordinates should have read “lat. 40°58′45″ N., long. 76°53′09″ W.” This action corrects that error.

Confirmation of Effective Date

The FAA uses the direct final rulemaking procedure for a non controversial rule where the FAA believes that there will be no adverse public comment. This direct final rule advised the public that no adverse comments were anticipated, and that unless a written adverse comment, or a written notice of intent to submit such an adverse comment, were received within the comment period, the regulation would become effective on April 10, 2008. It further advised that a confirmation docket would be published in the Federal Register confirming the date. This docket completes that requirement. No adverse comments were received, and thus this notice confirms that effective date.

Correction

Pursuant to the authority delegated to me, the publication in the Federal Register dated January 31, 2008 (73 FR 5739), Federal Register Docket No. FAA-2007-0276, on page 5741, column 1, line 48, is corrected to read:

(Lat. 40°58′45″ N., long. 76°53′09″ W.)

* * * * *

Issued in College Park, GA on April 25, 2008.
Mark D. Ward,
Manager, Operations Support Group, Eastern Service Center, Air Traffic Organization.

[FR Doc. E8-12774 Filed 6-11-08; 8:45 am]

BILLING CODE 4910-13-M